DEPARTMENT OF ENERGY

Federal Energy Regulatory Commission

[Project No. 2114-107]

Pat Kelleher, Complainant, v. PUD No. 2 of Grant County, WA, Respondent; Notice of Complaint

May 15, 2002.

Take notice that on April 29, 2002, Pat Kelleher filed a complaint pursuant to Rule 218 of the Commission's rules of practice and procedure, 18 CFR 385.218 (2002), and Part I of the Federal Power Act, 16 U.S.C. 791, et seq., against PUD No. 2 of Grant County, Washington, licensee of the Priest Rapids Project No. 2114, located on the Columbia River in Washington. Mr. Kelleher alleges that Grant County is failing to provide free public access to licensee fee-owned lands within the project boundary. Copies of the complaint are on file with the Commission and are available for public inspection in the Commission's Public Reference Room. The complaint may also be viewed on the Internet at http://www.ferc.gov using the “RIMS” link, select “Docket#” and follow the instructions (call 202-208-2222 for assistance).

Any person desiring to be heard or to protest this filing should file a motion to intervene or protest with the Federal Energy Regulatory Commission, 888 First Street, NE., Washington, DC 20426, in accordance with rules 211 and 214 of the Commission's rules of practice and procedure (18 CFR 385.211 and 385.214). All such motions or protests must be filed on or before May 28, 2002. Protests will be considered by the Commission in determining the appropriate action to be taken, but will not serve to make protestants parties to the proceeding. Any person wishing to become a party must file a motion to intervene. Answers to the complaint shall also be due on or before May 28, 2002. Copies of this filing are on file with the Commission and are available for public inspection. This filing may also be viewed on the web at http://www.ferc.gov using the “RIMS” link, select “Docket#” and follow the instructions (call 202-208-2222 for assistance). Comments, protests, interventions and answers may be filed electronically via the Internet in lieu of paper. See, 18 CFR 385.2001(a)(1)(iii) and the instructions on the Commission's web site under the “e-Filing” link.

Linwood A. Watson, Jr.,
Deputy Secretary.

[FR Doc. 02-12744 Filed 5-21-02; 8:45 am]

BILLING CODE 6717-01-P